DEPARTMENT OF TRANSPORTATION

Federal Railroad Administration

Notice of Application for Approval of Discontinuance or Modification of a Railroad Signal System or Relief From the Requirements of Title 49 Code of Federal Regulations Part 236

Pursuant to Title 49 Code of Federal Regulations (CFR) Part 235 and 49 U.S.C. 20502(a), the following railroad has petitioned the Federal Railroad Administration (FRA) seeking approval for the discontinuance or modification of the signal system or relief from the requirements of 49 CFR Part 236 as detailed below.

Docket Number FRA-2008-0056

Applicant: Utah Transit Authority, Ms. Jennifer Rigby, General Counsel, 3600 South 700 West, P.O. Box 30810, Salt Lake City, Utah 84130.

The Utah Transit Authority (UTA) seeks relief from the requirements of the Rules, Standards, and Instructions, Title 49 CFR Part 236, Section 236.310, Signal governing approach to home signal, for its planned commuter rail system “FrontRunner”, to the extent that UTA be permitted to utilize cab signals in place of wayside approach signals to home signals. The location of the request is the entire current and planned FrontRunner system. Phase 1 will be approximately 44 miles between Pleasant View, in Weber County, and Salt Lake City, Utah.

Applicant's justification for relief:

(1) The wayside portion of the automatic train control system continually monitors the track conditions ahead of a train. These conditions are continually transmitted to the train by the cab signals and impose the proper speed limit based upon the conditions that exist in advance of the train.

(2) There are 21 control points located on phase 1 of the FrontRunner system. There are no roadway signals in approach to these control point locations. Rather, the cab signal system will register the approach to a control point and display a cab signal to the operator. Visibility of cab signals is superior to that of roadway signals because the signal aspects are located within the operating cab in clear view of the operator where visibility is not hampered by weather or debris. The cab signal system permits automatic enforcement of adherence to speed limits and to the proper approach to the home signal. If the operator does not respond to the cab signal appropriately, an irrevocable penalty brake application will be provided.

(3) The cab signal system design as implemented provides an equivalent, if not higher, level of safety than that required under Section 236.310 because the visibility of cab signals is superior to that of roadway signals. Moreover, the cab signal system continually monitors the adherence to the speed limit and automatically warns the operator when the limit is exceeded and implements a penalty brake application if the operator fails to take appropriate action. Accordingly, relief from the requirements of Section 236.310 is justified.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

Any interested party desiring to protest the granting of an application shall set forth specifically the grounds upon which the protest is made, and it shall contain a concise statement of the interest of the party in the proceeding. Additionally, one copy of the protest shall be furnished to the applicant at the address listed above.

All communications concerning these proceedings should be identified by Docket Number FRA-2008-0056 and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on May 29, 2008.
Grady C. Cothen, Jr.,
Deputy Associate Administrator for Safety Standards and Program Development.

[FR Doc. E8-12406 Filed 6-3-08; 8:45 am]

BILLING CODE 4910-06-P